SECURITIES AND EXCHANGE COMMISSION

Sunshine Act Meeting

FEDERAL REGISTER CITATION OF PREVIOUS ANNOUNCEMENT:

STATUS: Closed meeting.

PLACE: 100 F Street, NE., Washington, DC.

DATE AND TIME OF PREVIOUSLY ANNOUNCED MEETING: Thursday, December 9, 2010 at 2 p.m.

CHANGE IN THE MEETING: Time change.

The closed meeting scheduled for Thursday, December 9, 2010 at 2 p.m. has been changed to Thursday, December 9, 2010 at 1 p.m.

At times, changes in Commission priorities require alterations in the scheduling of meeting items. For further information and to ascertain what, if any, matters have been added, deleted or postponed, please contact the Office of the Secretary at (202) 551-5400.

Dated: December 2, 2010.
Florence E. Harmon,
Deputy Secretary.

[FR Doc. 2010-30731 Filed 12-3-10; 11:15 am]

BILLING CODE 8011-01-P